DEPARTMENT OF HOMELAND SECURITY

Coast Guard

[Docket No. USCG-2009-0800]

Notification of the Imposition of Conditions of Entry for Certain Vessels Arriving to the United States, Madagascar

AGENCY: Coast Guard, DHS.

ACTION: Notice.

SUMMARY: The Coast Guard announces that it will impose conditions of entry on vessels arriving to the United States from Madagascar, with the exception of vessels arriving from the port of Toamasina (also known as Tamatave).

DATES: The requirements announced in this notice will become effective December 4, 2009.

ADDRESSES: This notice will be available for inspection and copying at the Docket Management Facility at the U.S. Department of Transportation, Room W12-140 on the Ground Floor of the West Building, 1200 New Jersey Avenue, SE., Washington, DC 20590, between 9 a.m. and 5 p.m., Monday through Friday, except Federal holidays. The telephone number is 202-366-9329.

FOR FURTHER INFORMATION CONTACT: If you have questions on this notice, call Mr. Michael Brown, International Port Security Evaluation Division, Coast Guard, telephone 202-372-1081. If you have questions on viewing or submitting material to the docket, call Renee V. Wright, Program Manager, Docket Operations, telephone 202-366-9826.

SUPPLEMENTARY INFORMATION:

Background and Purpose

Section 70110 of the Maritime Transportation Security Act of 2002 (Pub. L. 107-295, Nov. 25, 2002) (46 U.S.C. 70110) provides that the Secretary of Homeland Security may impose conditions of entry on vessels requesting entry into the United States arriving from ports that are not maintaining effective anti-terrorism measures, may deny entry into the United States to any vessel that does not meet such conditions set forth herein, and shall provide public notice for passengers of the ineffective antiterrorism measures. The Coast Guard has been delegated the authority by the Secretary to carry out the provisions of this section. Previous notices have imposed or removed conditions of entry on vessels arriving from certain countries and those conditions of entry and the countries they pertain to remain in effect unless modified by this notice.

Based on an assessment conducted pursuant to the provisions of 46 U.S.C. 70108 and the International Ship and Port Facility Security (ISPS) Code, the Coast Guard has determined that ports in Madagascar are not maintaining effective anti-terrorism measures. Inclusive to this determination is an assessment that Madagascar presents significant risk of introducing instruments of terror into international maritime commerce.

Consistent with 46 U.S.C. 70109, the United States notified Madagascar of this determination on May 17, 2007, and identified steps necessary to improve the antiterrorism measures in Madagascar. To date, the United States cannot confirm that the identified deficiencies have been corrected.

Accordingly, effective December 4, 2009 the Coast Guard will impose the following conditions of entry on vessels that visited ports in Madagascar, with the exception of vessels arriving from the port of Toamasina (also known as Tamatave) during their last five port calls. Vessels must:

• Implement measures per the ship's security plan equivalent to “Security Level 2” while in a port in Madagascar. As defined in the ISPS Code and incorporated herein, “Security Level 2” refers to the “level for which appropriate additional protective security measures shall be maintained for a period of time as a result of heightened risk of a security incident.”

• Ensure that each access point to the ship is guarded and that the guards have total visibility of the exterior (both landside and waterside) of the vessel while the vessel is in ports in Madagascar. Guards may be provided by the ship's crew, however additional crewmembers should be placed on the ship if necessary to ensure that limits on maximum hours of work are not exceeded and/or minimum hours of rest are met. Guards may also be provided by outside security forces approved by the ship's master and “Company Security Officer.” As defined in the ISPS Code and incorporated herein, “Company Security Officer” refers to the “person designated by the Company for ensuring that a ship security assessment is carried out; that a ship security plan is developed, submitted for approval, and thereafter implemented and maintained and for liaison with port facility security officers and the ship security officer.”

• Attempt to execute a Declaration of Security while in port in Madagascar;

• Log all security actions in the ship's log; and

• Report actions taken to the cognizant Coast Guard Captain of the Port prior to arrival into U.S. waters.

In addition, based on the findings of a Coast Guard boarding or examination, vessels may be required to ensure that each access point to the ship is guarded by armed security guards and that they have total visibility of the exterior (both landside and waterside) of the vessel while in U.S. ports. The number and position of the guards has to be acceptable to the cognizant Coast Guard Captain of the Port prior to the vessel's arrival. Consistent with 46 U.S.C. 70110, the United States may deny entry into the United States to any vessel that does not meet the conditions set forth herein. This notice also informs passengers of the ineffective antiterrorism measures at ports in Madagascar with the exception of the Port of Toamasina, also known as Tamatave.

This notice is issued under authority of 46 U.S.C. 70110(a).

Dated: October 15, 2009.
Sally Brice-O'Hara,
USCG, Deputy Commandant for Operations.

[FR Doc. E9-27876 Filed 11-19-09; 8:45 am]

BILLING CODE 9110-04-P